FEDERAL COMMUNICATIONS COMMISSION

Notice of Public Information Collection(s) Being Reviewed by the Federal Communications Commission

February 27, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning whether the proposed collection of information is necessary for the proper performance of the functions of the Commission, including whether the information shall have practical utility; the accuracy of the Commission's burden estimate; ways to enhance the quality, utility, and clarity of the information collected; and ways to minimize the burden of the collection of information on the respondents, including the use of automated collection techniques or other forms of information technology.

DATES: Written comments should be submitted on or before April 7, 2003. If you anticipate that you will be submitting comments, but find it difficult to do so within the period of time allowed by this notice, you should advise the contact listed below as soon as possible.

ADDRESSES: Direct all comments to Judith Boley Herman, Federal Communications Commission, Room 1-C804, 445 12th Street, SW., DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-0240.

Title: Equipment Changes.

Form No.: N/A.

Type of Review: Revision of a currently approved collection.

Respondents: Business or other for-profit.

Number of Respondents: 36.

Estimated Time Per Response: .5-1 hour.

Frequency of Response: On occasion reporting requirement.

Total Annual Burden: 24 hours.

Total Annual Cost: N/A.

Needs and Uses: The Commission is consolidating three information collections into one comprehensive collection covering equipment changes. All three collections are under different OMB control numbers but the Commission will retain 3060-0240 as the active number and cancel the other two numbers. All three rule sections require that the licensees of various stations notify the Commission in writing of equipment changes. The data is used to maintain complete technical records regarding a licensee's facilities and to assure that the changes made are in compliance with current FCC rules and regulations.

OMB Control No.: 3060-XXXX.

Title: Potential Reporting Requirements on Local Exchange Carriers (LECs) to Assist Expeditious Implementation of Wireless E911 Service.

Form No.: N/A.

Type of Review: New collection.

Respondents: Business or other for-profit.

Number of Respondents: 6 respondents; 24 responses.

Estimated Time Per Response: 8 hours.

Frequency of Response: On occasion reporting requirement.

Total Annual Burden: 192 hours.

Total Annual Cost: N/A.

Needs and Uses: The Commission plans to seek information from six of the nation's Local Exchange Carriers (LECs) regarding the status of their efforts in connection with wireless E911 deployment. The information will be used by the Commission to determine whether the LECs are meeting their responsibilities with respect to E911.

Federal Communications Commission.
Marlene H. Dortch,
Secretary.

[FR Doc. 03-5398 Filed 3-6-03; 8:45 am]

BILLING CODE 6712-01-P